DEPARTMENT OF HOUSING AND URBAN DEVELOPMENT

[Docket No. FR-5288-N-08]

Notice of Proposed Information Collection for Public Comment; Public Housing Operating Subsidy—Stop-Loss and Appeals

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: November 2, 2009.

ADDRESSES: Interested persons are invited to submit comments regarding this proposal. Comments should refer to the proposal by name or OMB Control Number and should be sent to: Lillian L. Deitzer, Department Reports Management Officer, ODAM, Department of Housing and Urban Development, 451 7th Street, SW., Room 4116, Washington, DC 20410-5000; telephone: 202-708-2374, (this is not a toll-free number) or e-mail Ms. Deitzer at Lillian_L._Deitzer@HUD.gov for a copy of the proposed form and other available information.

FOR FURTHER INFORMATION CONTACT: Dacia Rogers, Office of Policy, Programs and Legislative Initiatives, PIH, Department of Housing and Urban Development, 451 Seventh Street, SW., Washington, DC 20410; telephone: 202-708-0713, (this is not a toll-free number).

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This notice also lists the following information:

Title of Proposal: Public Housing Operating Subsidy—Stop-Loss and Appeals.

OMB Control Number: 2577-0246.

Description of the need for the information and proposed use: PHAs that will experience a reduction in subsidy will have their subsidy reduction phased in over a five-year period. PHAs that elect to stop the phase in of the decrease in their subsidy are required to demonstrate to HUD a successful conversion to asset management, as provided in the operating fund final rule. A PHA with a reduction in subsidy may make this demonstration to HUD in order to “stop its losses” during any one of the five years over which HUD phases in the reduction. Under the operating fund final rule, PHAs that elect to file an appeal of their subsidy amounts are required to meet the appeal requirements set forth in subpart G of the operating fund final rule. The final rule establishes five grounds for appeals in 24 CFR § 990.245 and they are the: (a) Streamlined appeal; (b) appeal of formula income for economic hardship; (c) appeal for specific local conditions; (d) appeal for changing market conditions; and (e) appeal to substitute actual project cost data. To stop the phase-in of the reduction in the amount of subsidy a PHA receives under the new operating fund formula, PHAs submit a “stop-loss” package to HUD demonstrating conversion to asset management. To appeal the amount of subsidy on any one of the permitted bases of appeal, PHAs submit an appeal request to HUD.

Agency form number, if applicable: N/A.

Members of affected public: PHAs, state or local government.

Estimation of the total number of hours needed to prepare the information collection including number of respondents: The estimated number of respondents is an annual average of 146 PHAs that submit one request for stop-loss and an annual average of 176 PHAs that submit an appeal of the amount of operating subsidy, for a total 322 PHAs that submit annually. The average number for each PHA response varies by size of the PHA, with a total reporting burden of 5,168 hours: An average of 21.7 hours per respondent for stop-loss; and an average of 11.5 hours per respondent for appeals.

Status of the proposed information collection: Extension of an existing collection.

Authority: Section 3506 of the Paperwork Reduction Act of 1995, 44 U.S.C. Chapter 35, as amended.

Dated: August 28, 2009.
Bessy Kong,
Deputy Assistant Secretary, Policy, Program and Legislative Initiatives.

[FR Doc. E9-21206 Filed 9-1-09; 8:45 am]

BILLING CODE 4210-67-P